DEPARTMENT OF HOMELAND SECURITY

Federal Emergency Management Agency

[Docket ID: FEMA-2015-0025; OMB No. 1660-NEW]

Agency Information Collection Activities: Submission for OMB Review; Comment Request; Individual & Community Preparedness Division (ICPD) Annual Youth Preparedness Council (YPC) Application Form

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before June 27, 2016.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This information collection previously published in the Federal Register on October 28, 2015, at 80 FR 66031 with a 60 day public comment period. No comments were received. The purpose of this notice is to notify the public that FEMA will submit the information collection abstracted below to the Office of Management and Budget for review and clearance.

Collection of Information

Title: Individual & Community Preparedness Division (ICPD) Annual Youth Preparedness Council (YPC) Application Form.

Type of information collection: New information collection.

OMB Number: 1660-NEW.

Form Titles and Numbers: FEMA Form 008-0-0-24, FEMA Youth Preparedness Council Application Form.

Abstract: FEMA Headquarters and regional staff review completed applications to select council members based on dedication to public service, efforts in making a difference in their community, and potential for expanding their impact as a national advocate for youth preparedness. Applicants for the YPC apply by downloading a PDF application from FEMA's Web site. They can either complete the written form or they can answer the questions in the form of a short video. They must then download their application and submit the application and related documents, including reference letters and academic records, to FEMA via the FEMA-Youth-Prepareness-Council@fema.dhs.gov email address. Fifteen youths are selected to serve as a council member.

Affected Public: Individuals or households.

Estimated Number of Respondents: 100.

Estimated Total Annual Burden Hours: 142 hours.

Estimated Cost: The estimated annual cost to respondents for the hour burden is $0. There are no annual costs to respondents' operations and maintenance costs for technical services. There are no annual start-up or capital costs. The cost to the Federal Government is $65,662.00.

Dated: May 18, 2016.
Richard W. Mattison
Records Management Program Chief, Mission Support, Federal Emergency Management Agency, Department of Homeland Security.

[FR Doc. 2016-12616 Filed 5-26-16; 8:45 am]

BILLING CODE 9111-46-P